DEPARTMENT OF THE INTERIOR

Bureau of Land Management

Meeting of the California Desert District Advisory Council

AGENCY: Bureau of Land Management, Interior.

ACTION: Notice of public meeting.

SUMMARY: Notice is hereby given, in accordance with Public Laws 92-463 and 94-579, that the California Desert District Advisory Council to the Bureau of Land Management, U.S. Department of the Interior, will meet in formal session on Friday, June 24, 2005, from 8 a.m. to 5 p.m. and Saturday, June 25 from 8 a.m. to 3 p.m. The meeting will be held in the Ontario Airport Hilton Hotel, located at 700 North Haven Avenue, in Ontario, California.

Tentative agenda items include the following:

—Reports by Council members, the District Manager and five field office managers.

—Update on the West Mojave Plan.

—Discussions regarding the formation of a technical review team (TRT) to evaluate the special use permit process for events held in the California Desert District.

—Discussions regarding the formation of a TRT for Dumont Dunes and a TRT for the El Mirage Dry Lake Recreation Area.

—Public comment for items not on the agenda.

All Desert District Advisory Council meetings are open to the public. Time for public comment may be made available by the Council Chairman during the presentation of various agenda items, and is scheduled at the end of the meeting for topics not on the agenda.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

FOR FURTHER INFORMATION CONTACT: Doran Sanchez, BLM California Desert District Public Affairs Specialist (951) 697-5220.

Dated: May 12, 2005.
Linda Hansen,
District Manager.

[FR Doc. 05-10092 Filed 5-19-05; 8:45 am]

BILLING CODE 4310-40-P